NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by May 21, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application: 2013-002

1. Applicant: Paul Morin, Department of Geology and Geophysics, University of Minnesota, 310 Pillsbury Drive SE., Minneapolis, MN 55455.

Activity for Which Permit Is Requested

Enter Antarctic Specially Protected Areas (ASPA's), The applicant plans to enter ASPA 116-New College Valley, Cape Bird; ASPA 121-Cape Royds; ASPA 124-Cape Crozier; and, ASPA 155-Cape Evans to collect ground control points with highly precise GPS equipment. Their activity will include hiking within each area to readily-identify boulders, peaks, etc., gathering precise GPS coordinates of that location, and taking notes and pictures of the surrounding area. Other activities would include delineating boundaries of penguin colonies, ASPAs, and important environmental features. The data collected will be used to create updated and accurate maps of areas of important scientific and environmental importance within the Ross Sea region. The collected imagery will used for further scientific analysis.

Location

ASPA 116-New College Valley, Cape Bird; ASPA 121-Cape Royds; ASPA 124-Cape Crozier; and, ASPA 155-Cape Evans.

Dates

October 10, 2012 to January 31, 2013.

Nadene G. Kennedy,
Permit Officer, Office of Polar Programs.

[FR Doc. 2012-9587 Filed 4-19-12; 8:45 am]

BILLING CODE 7555-01-P